LEGAL SERVICES CORPORATION

Sunshine Act Meeting of the Board of Directors Provision for the Delivery of Legal Services Committee

Time and Date: The Provision for the Delivery of Legal Services Committee of the Legal Services Corporation Board of Directors will meet June 4, 2004. The meeting will begin at 2 p.m. and continue until completion of the Committee's agenda.

Location: Hilton Omaha, Hill Room, 1001 Cass Street, Omaha, Nebraska 68102.

Status of Meeting: Open.

Matters to be Considered:

Open Session

1. Approval of agenda.

2. Approval of the minutes of the Committee's meeting of April 30, 2004.

3. Presentation on Challenges in the Delivery of Quality Legal Services in Rural Areas:

a. Presentation by Pat McClintock, Deputy Director/Program Administrator and Manager of Iowa Legal Aid's Technology Innovations.

b. Presentation by Gail Klearman, Managing Attorney of Iowa Legal Aid's Survivors and Families Rural Access Project.

c. Presentation by Scott Hartsook, Managing Attorney of Iowa Legal Aid's Legal Hotline for Older Iowans and Previous Manager of the Iowa Legal Aid Farm Project.

d. Presentation by Frank Tenuta, Managing Attorney of Iowa Legal Aid's Northwest Iowa Regional Office.

4. Presentation by Lillian Johnson on a proposed mentoring project.

5. Public comment.

6. Consider and act on other business.

7. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: May 26, 2004.
Victor M. Fortuno,
Vice President for Legal Affairs, General Counsel & Corporate Secretary.

[FR Doc. 04-12582 Filed 5-28-04; 1:37 pm]

BILLING CODE 7050-01-P